DEPARTMENT OF THE INTERIOR

Office of Surface Mining Reclamation and Enforcement

Notice of Proposed Information Collection

AGENCY: Office of Surface Mining Reclamation and Enforcement, Interior.

ACTION: Notice and request for comments.

SUMMARY: In compliance with the Paperwork Reduction Act of 1995, the Office of Surface Mining Reclamation and Enforcement (OSM) is announcing that the information collection requests for 30 CFR part 733, Maintenance of State programs and procedures for substituting Federal enforcement of State programs and withdrawing approval of State programs; 30 CFR part 785, Requirements for permits for special categories of mining; and 30 CFR part 876, Acid mine drainage treatment and abatement program, have been forwarded to the Office of Management and Budget (OMB) for review and comment. The information collection requests describe the nature of the information collections and their expected burden and cost.

DATES: OMB has up to 60 days to approve or disapprove the information collections but may respond after 30 days. Therefore, public comments should be submitted to OMB by July 24, 2000, in order to be assured of consideration.

FOR FURTHER INFORMATION CONTACT: To request a copy of any of the three information collection requests, explanatory information and related forms, contact John A. Trelease at (202) 208-2783. You may also contact Mr. Trelease at jtrelease@osmre.gov.

SUPPLEMENTARY INFORMATION: OMB regulations at 5 CFR 1320, which implement provisions of the Paperwork Reduction Act of 1995 (Pub. L. 104-13), require that interested members of the public and affected agencies have an opportunity to comment on information collection and recordkeeping activities [see 5 CFR 1320.8(d)]. OSM has submitted three requests to OMB to renew its approval for the collections of information found at 30 CFR parts 733, 785 and 876. OSM is requesting a 3-year term of approval for these information collection activities.

An agency may not conduct or sponsor, and a person is not required to respond to, a collection of information unless it displays a currently valid OMB control number. The OMB control numbers for these collections of information are 1029-0025 for part 733, 1029-0040 for part 785, and 1029-0104 for part 876, and may be found in OSM's regulations at 733.10, 785.10 and 876.10.

As required under 5 CFR 1320.8(d), a Federal Register notice soliciting comments on the collections of information for parts 733 and 875 was published on March 10, 2000 (65 FR 13015), and on April 5, 2000 (65 FR 17900), for part 785. No comments were received from either notice. This notice provides the public with an additional 30 days in which to comment on the following information collection activities:

Title: Maintenance of State programs and procedures for substituting Federal enforcement of State programs and withdrawing approval of State programs, 30 CFR 733.

OMB Control Number: 1029-0025.

Summary: This part provides that any interested person may request the Director of OSM to evaluate a State program by setting forth in the request a concise statement of facts which the person believes establishes the need for the evaluation.

Bureau Form Number: None.

Frequency of Collection: Once.

Description of Respondents: Any interested person (individuals, businesses, institutions, organizations).

Total Annual Responses: 2.

Total Annual Burden Hours: 200 hours.

Title: Requirements for permits for special categories of mining, 30 CFR 785.

OMB Control Number: 1029-0040.

Summary: The information is being collected to meet the requirements of sections 507, 508, 510, 515, 701 and 711 of Pub. L. 95-87, which requires applicants for special types of mining activities to provide descriptions, maps, plans and data of the proposed activity. This information will be used by the regulatory authority in determining if the applicant can meet the applicable performance standards for the special type of mining activity.

Bureau Form Number: None.

Frequency of Collection: Once.

Description of Respondents: Applicants for coal mine permits.

Total Annual Responses: 347.

Total Annual Burden Hours: 16,372.

Title: Acid mine drainage treatment and abatement program, 30 CFR 876.

OMB Control Number: 1029-0104.

Summary: This part establishes the requirements and procedures allowing State and Indian Tribes to establish acid mine drainage abatement and treatment programs under the Abandoned Mine Land fund as directed through Public Law 101-508.

Bureau Form Number: None.

Frequency of Collection: Once.

Description of Respondents: State governments and Indian Tribes.

Total Annual Responses: 1.

Total Annual Burden Hours: 350.

Send comments on the need for the collection of information for the performance of the functions of the agency; the accuracy of the agency's burden estimates; ways to enhance the quality, utility and clarity of the information collection; and ways to minimize the information collection burden on respondents, such as use of automated means of collection of the information, to the following address. Please refer to the appropriate OMB control number in all correspondence.

ADDRESSES: Office of Information and Regulatory Affairs, Office of Management and Budget, Attention: Department of Interior Desk Officer, 725 17th Street, NW, Washington, DC 20503. Also, please send a copy of your comments to John A. Trelease, Office of Surface Mining Reclamation and Enforcement, 1951 Constitution Ave, NW, Room 210—SIB, Washington, DC 20240, or electronically to jtreleas@osmre.gov.

Dated: June 20, 2000.
Richard G. Bryson,
Chief, Division of Regulatory Support.

[FR Doc. 00-15899 Filed 6-22-00; 8:45 am]

BILLING CODE 4310-05-M